DEPARTMENT OF THE INTERIOR

Bureau of Land Management

[BLM_AK_FRN_MO4500181119]

Notice of Availability of the Record of Decision and Approved Resource Management Plan for the Central Yukon Resource Management Plan/Environmental Impact Statement, Alaska

AGENCY: Bureau of Land Management, Interior.

ACTION: Notice of availability.

SUMMARY: The Bureau of Land Management (BLM) announces the availability of the Record of Decision (ROD) and Approved Resource Management Plan (RMP) for the Central Yukon planning area of Alaska, located in Central and Northern Alaska. The State Director, Alaska, signed the ROD on November 12, 2024, which constitutes the decision of the BLM and makes the Approved RMP effective immediately.

DATES: The State Director, Alaska, signed the ROD/Approved RMP on November 12, 2024.

ADDRESSES: The ROD/Approved RMP is available online at the BLM National Environmental Policy Act Register at https://eplanning.blm.gov/eplanning-ui/project/35315/510. Printed copies of the ROD/Approved RMP will also be available for public inspection within weeks of publication of this notice at the following locations:

BLM Fairbanks District Office, 222 University Avenue, Fairbanks, AK 99709, telephone: (907) 474-2200.

BLM Alaska Public Information Center, James M. Fitzgerald Federal Building, 222 West 7th Avenue, Anchorage, AK 99513, telephone: (907) 271-5960.

Alaska Resources Library & Information Services, 3211 Providence Drive, Suite 111, Anchorage, AK 99508, telephone: (907) 272-7547.

Printed copies can be provided upon request by contacting the BLM Alaska Public Information Center listed above.

A copy of the Protest Resolution Report is available at: https://www.blm.gov/programs/planning-and-nepa/public-participation/protest-resolution-reports.

FOR FURTHER INFORMATION CONTACT: Melinda Bolton, BLM Alaska State Office; telephone: (907) 271-3342, email: mbolton@blm.gov. Individuals in the United States who are deaf, deafblind, hard of hearing, or have a speech disability may dial 711 (TTY, TDD, or TeleBraille) to access telecommunications relay services for contacting Ms. Bolton. Individuals outside the United States should use the relay services offered within their country to make international calls to the point-of-contact in the United States.

SUPPLEMENTARY INFORMATION: The Approved RMP replaces the Utility Corridor RMP (1991), the original Central Yukon RMP (1986), and portions of the Southwest Management Framework Plan (1981), and provides RMP-level decisions for unplanned lands west of Fairbanks. The Approved RMP provides a consolidated direction under one RMP to address land and resource use and development on BLM-managed public lands within the planning area.

The Approved RMP and ROD set forth a comprehensive framework for future public land management actions in the Central Yukon region of Alaska. The planning area consists of about 55.7 million acres of land, including approximately 13.3 million acres of public lands administered by the BLM Central Yukon Field Office.

The Approved RMP will guide management of these public lands for the next 15 to 20 years for the benefit of current and future generations as part of the BLM's multiple-use mission. This planning effort is updating management decisions for public land uses and resources, including subsistence resources, mineral exploration and development, and recreation.

The Central Yukon Proposed RMP/Final EIS evaluated six alternatives for managing the planning area. Alternatives B, C1, C2 (preferred alternative from the Draft RMP/EIS), and D were developed using input from the public, Tribes, stakeholders, and cooperating agencies. Alternative E is the BLM's Approved RMP. This alternative was developed after considering public comments on the Draft RMP/EIS and provided in the Alaska National Interest Lands Conservation Act section 810 hearings, internal BLM discussions, government-to-government consultation, and cooperating agency input.

The Approved RMP does not recommend full revocation of the Alaska Native Claims Settlement Act 17(d)(1) Public Land Orders (PLOs) but does recommend revoking the withdrawals in part for the limited purpose of allotment selection by Alaska Native Vietnam-era veterans under Section 1119 of the Dingell Act. The Approved RMP also designates 21 Areas of Critical Environmental Concern (ACEC) or Research Natural Areas, encompassing approximately 3,601,000 acres (see Appendix M of the Approved RMP).

The BLM provided the Proposed RMP/Final EIS for a 30-day public protest period starting on April 26, 2024, and received six letters containing valid protest issues. The Assistant Director addressed the protests and issued a Protest Resolution Report (see ADDRESSES); no changes to the Central Yukon Proposed RMP/Final EIS were necessary.

The BLM provided the Proposed RMP/Final EIS to the Governor of Alaska for a 60-day Governor's consistency review on April 26, 2024. The Governor's Office identified concerns and potential inconsistencies between the Proposed RMP/Final EIS and State and local plans, policies, and programs. The BLM considered the concerns and potential inconsistencies and responded on August 13, 2024. While the BLM determined that the Proposed RMP/Final EIS was consistent with the State's land use plans, policies, and programs, it did add the three State plans to the Approved RMP, Appendix C. The additions were made in the interest of open discussion, were minor, and did not represent a change requiring the BLM to provide the public with an opportunity to comment as discussed in 43 CFR 1610.2(f)(5) and 1610.5-1. On September 13, 2024, the Governor of Alaska appealed the State Director's decision not to accept the State's recommendations to the BLM Director. After careful review and consideration, the BLM Director determined that the Alaska State Director properly considered all applicable State and local plans, policies, and programs in the Central Yukon planning effort, and that no changes are necessary to provide for a reasonable balance between the national interest and the State's interest. The Director's response to the State of Alaska's Appeal was transmitted to State Officials on November 12, 2024, prior to approval of the ROD. Consistent with the BLM regulations at 43 CFR 1610.3-2 the Director's Response will also be published in the Federal Register.

(Authority: 16 U.S.C. 3120(a); 40 CFR 1506.6(b))

Steven Cohn,
State Director, Alaska.

[FR Doc. 2024-27443 Filed 11-21-24; 8:45 am]

BILLING CODE 4331-10-P